DEPARTMENT OF STATE

[Public Notice 7117]

Culturally Significant Objects Imported for Exhibition Determinations: “Kurt Schwitters: Color and Collage”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000, I hereby determine that the objects to be included in the exhibition “Kurt Schwitters: Color and Collage,” imported from abroad for temporary exhibition within the United States, are of cultural significance. The objects are imported pursuant to loan agreements with the foreign owners or custodians. I also determine that the exhibition or display of the exhibit objects at the Menil Collection, Houston, TX, from on or about October 22, 2010, until on or about January 22, 2011; the Princeton University Art Museum, Princeton, NJ, from on or about March 26, 2011, until on or about June 26, 2011; the UC Berkeley Art Museum and Pacific Film Archive, Berkeley, CA, from on or about August 3, 2011, until on or about November 27, 2011, and at possible additional exhibitions or venues yet to be determined, is in the national interest. Public Notice of these Determinations is ordered to be published in the Federal Register.

FOR FURTHER INFORMATION CONTACT: For further information, including a list of the exhibit objects, contact Carol B. Epstein, Attorney-Adviser, Office of the Legal Adviser, U.S. Department of State (telephone: 202/632-6473). The address is U.S. Department of State, SA-5, L/PD, Fifth Floor, Washington, DC 20522-0505.

Dated: August 3, 2010.
Ann Stock,
Assistant Secretary, Bureau of Educational and Cultural Affairs, Department of State.

[FR Doc. 2010-19836 Filed 8-10-10; 8:45 am]

BILLING CODE 4710-05-P